DEPARTMENT OF JUSTICE

Bureau of Prisons

28 CFR Part 549

[BOP-1129-F]

RIN 1120-AB29

Over-The-Counter (OTC) Medications: Technical Correction

AGENCY: Bureau of Prisons, Justice.

ACTION: Final rule.

SUMMARY: This document finalizes a minor technical correction to the Bureau of Prisons (Bureau) regulations on Over-The-Counter (OTC) medications. Previously, our rule defined an inmate without funds as one who has had an average daily trust fund account balance of less than $6.00 for the past 30 days. The words “average daily” in that definition resulted in incorrect classifications by the Bureau's business offices. The more accurate definition of an inmate without funds is one who has not had a trust fund account balance of $6.00 for the past 30 days. We therefore issue this technical correction.

DATES: This rule is effective June 20, 2005.

ADDRESSES: Rules Unit, Office of General Counsel, Bureau of Prisons, 320 First Street, NW., Washington, DC 20534. Our email address is BOPRULES@BOP.GOV.

FOR FURTHER INFORMATION CONTACT: Sarah Qureshi, Office of General Counsel, Bureau of Prisons, phone (202) 307-2105.

SUPPLEMENTARY INFORMATION: We amend our regulations on Over-The-Counter (OTC) medications (28 CFR part 549, subpart B). We published a final rule on this subject in the Federal Register on August 12, 2003 (68 FR 47847), and this correction as an interim final rule on September 3, 2004 (69 FR 53804). We received no comments on the interim final rule, and therefore publish it as final without change.

Previously, our rule defined an inmate without funds as one who has had an average daily trust fund account balance of less than $6.00 for the past 30 days. The words “average daily” in that definition resulted in incorrect classifications by the Bureau's business offices. The more accurate definition of an inmate without funds is one who has not had a trust fund account balance of $6.00 for the past 30 days. We therefore issue this technical correction.

Executive Order 12866

This regulation has been drafted and reviewed in accordance with Executive Order 12866, “Regulatory Planning and Review”, section 1(b), Principles of Regulation. The Director of the Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Under Executive Order 13132, this rule does not have sufficient federalism implications for which we would prepare a Federalism Assessment.

Regulatory Flexibility Act

The Director of the Bureau of Prisons, under the Regulatory Flexibility Act (5 U.S.C. 605(b)), reviewed this regulation. By approving it, the Director certifies that it will not have a significant economic impact upon a substantial number of small entities because: This rule is about the correctional management of offenders committed to the custody of the Attorney General or the Director of the Bureau of Prisons, and its economic impact is limited to the Bureau's appropriated funds.

Unfunded Mandates Reform Act of 1995

This rule will not cause State, local and tribal governments, or the private sector, to spend $100,000,000 or more in any one year, and it will not significantly or uniquely affect small governments. We do not need to take action under the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 549

Prisoners.

Harley G. Lappin,
Director, Bureau of Prisons.

[FR Doc. 05-10044 Filed 5-19-05; 8:45 am]

BILLING CODE 4410-05-P